DEPARTMENT OF AGRICULTURE

Forest Service

Notice of Resource Advisory Committee Meeting

AGENCY: North Central Idaho Resource Advisory Committee, Kamiah, Idaho, USDA, Forest Service.

ACTION: Notice of meeting.

SUMMARY: Pursuant to the authorities in the Federal Advisory Committee Act (Pub. L. 92-463) and under the Secure Rural Schools and Community Self-Determination Act of 2000 (Pub. L. 106-393) the Nez Perce and Clearwater National Forests' North Central Idaho Resource Advisory Committee will meet Tuesday, November 15, 2005, in Orofino, Idaho for a business meeting. The meeting is open to the public.

SUPPLEMENTARY INFORMATION: The business meeting on November 15, will be at the Clearwater National Forest Supervisors Office, 12730 Highway 12, Orofino, Idaho, beginning at 10 a.m. (P.S.T.). Agenda topics will include discussion of potential projects. A public forum will begin at 2:30 p.m. (P.S.T.).

FOR FURTHER INFORMATION CONTACT: Ihor Mereszczak, Staff Officer and Designated Federal Officer, at (208) 935-2513.

Dated: October 18, 2005.
Ihor Mereszczak,
Acting Forest Supervisor.

[FR Doc. 05-21190 Filed 10-21-05; 8:45 am]

BILLING CODE 3410-11-M